DEPARTMENT OF TRANSPORTATION

Federal Highway Administration

Environmental Impact Statement: Camden and Gloucester Counties, NJ

AGENCY: Federal Highway Administration (FHWA), USDOT.

ACTION: Notice of intent.

SUMMARY: The FHWA is issuing this notice to advise the public that an environmental impact statement will be prepared for improvements at the interchange of Routes I-295/I-76/NJ 42 in Camden and Gloucester Counties, to enhance the traffic flow within the interchange.

FOR FURTHER INFORMATION CONTACT: Lourdes Castaneda, Area Engineer, or Amy Fox, Environmental Coordinator, Federal Highway Administration, 840 Bear Tavern Road, Suite 310, West Trenton, NJ 08628.

SUPPLEMENTARY INFORMATION: Pursuant to title 23, Code of Federal Regulations, part 771, Environmental Impact Statement and Related Procedures, the FHWA, in cooperation with the New Jersey Department of Transportation (NJDOT), will prepare an environmental impact statement (EIS) in accordance with the National Environmental Policy Act (NEPA) for a proposal to improve the interchange of Routes I-295/I-76/NJ 42 in Camden and Gloucester Counties.

Improvements to the interchange are considered necessary to provide a safer and more efficient roadway. Several alternatives including a “No-Build” Alternative (continuation of the existing condition) will be analyzed.

Letters describing the action and soliciting comments will be sent to appropriate Federal, State, and Local agencies, and to private organizations and citizens who have previously expressed or are known to have interest in this proposal. A series of public meetings will be held during the development of this document. Public notice will be given of the time and place of the meetings and hearing. The draft EIS will be available for public and agency review and comment prior to the public hearing. A formal scoping meeting will be conducted.

To ensure that the full range of issues relating to this proposed action are addressed and all significant issues are identified, written comments, suggestions or questions should be directed to the FHWA at the address provided above or directed to: Mr. Andras Fekete, Manager, Bureau of Environmental Services, New Jersey Department of Transportation, 1035 Parkway Avenue, Trenton, NJ 08625-0600, telephone: (609) 530-2824.

(Catalog of Federal Domestic Assistance Program Number 20.205, Highway Research, Planning and Construction. The regulations implementing Executive Order 12372 regarding inter-governmental consultation on Federal programs and activities apply to this program)

Issued on: October 12, 2001.
Randell Prescott,
Program Operations Director, FHWA—New Jersey Division, Trenton.

[FR Doc. 01-26785 Filed 10-23-01; 8:45 am]

BILLING CODE 4910-22-M